DEPARTMENT OF HOUSING AND URBAN DEVELOPMENT

[Docket No. FR-5496-N-03]

Conference Call Meeting of the Manufactured Housing Consensus Committee

AGENCY: Office of the Assistant Secretary for Housing—Federal Housing Commissioner, HUD.

ACTION: Notice of upcoming meeting via conference call.

SUMMARY: This notice sets forth the schedule and proposed agenda of an upcoming meeting of the Manufactured Housing Consensus Committee (the Committee) to be held via telephone conference. This meeting is open to the general public, which may participate by following the instructions below.

DATES: The meeting will be held on Wednesday, July 20, 2011, by conference call from 11 a.m. to 1 p.m. EST.

Conference Call: Members of the public who wish to join the call may call the toll free number 877-320-2367 and enter pass code 4191690. Additional information concerning the conference call can be obtained from the Department's Consensus Committee Administering Organization, the National Fire Protection Association (NFPA). Interested parties can access the NFPA Web site to obtain additional information about the Manufactured Housing Consensus Committee and the Administering Organization. The link can be found at: http://www.nfpa.org/categoryList.asp?categoryID=858. Locate Quick Links on the webpage and select Meeting Notices.

Alternately, interested parties may contact Jill McGovern of NFPA at (617) 984-7404 (this is not a toll-free number) for conference call information.

FOR FURTHER INFORMATION CONTACT: Teresa B. Payne, Associate Deputy Assistant Secretary, Office of Regulatory Affairs and Manufactured Housing, Department of Housing and Urban Development, 451 7th Street SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with Sections 10(a) and (b) of the Federal Advisory Committee Act (5 U.S.C. App. 2) and 41 CFR 102-3.150. The Manufactured Housing Consensus Committee was established under Section 604(a)(3) of the National Manufactured Housing Construction and Safety Standards Act of 1974, as amended, 42 U.S.C. 5403(a)(3). The Committee is charged with providing recommendations to the Secretary to adopt, revise, and interpret manufactured home construction and safety standards and procedural and enforcement regulations, and with developing and recommending proposed model installation standards to the Secretary.

The purpose of this conference call meeting is for the Committee to conduct routine business, receive subcommittee status reports, receive subcommittee recommendations/proposals (if any), and any other business that may come before the Committee.

Tentative Agenda

A. Roll call.

B. Welcome and opening remarks.

C. Public Testimony

D. Subcommittee Progress Reports

E. Two-year Construction and Safety Standards review period

F. Other Business

G. Adjournment

Dated: June 23, 2011.
Ronald Spraker,
Associate General Deputy, Assistant Secretary for Housing.

[FR Doc. 2011-16495 Filed 6-29-11; 8:45 am]

BILLING CODE 4210-67-P